DEPARTMENT OF AGRICULTURE

Animal and Plant Health Inspection Service

9 CFR Part 93

[Docket No. APHIS-2008-0010]

RIN 0579-AC68

Bovine Spongiform Encephalopathy; Importation of Bovines and Bovine Products

Correction

In proposed rule document 2012—6151 beginning on page 15848 in the issue of Friday, March 16, 2012 make the following correction:

§ 93.418 [Corrected]

On page 15902, in the second column, in § 93.418(d)(2)(iv)(A), in the first line “A “C‸N” mark” should read “A “C^N” mark”.

[FR Doc. C1-2012-6151 Filed 4-3-12; 8:45 am]

BILLING CODE 1505-01-D